DEPARTMENT OF TRANSPORTATION

Federal Aviation Administration

14 CFR Part 39

[Docket No. 2000-CE-33-AD; Amendment 39-12234; AD 2001-10-08]

RIN 2120-AA64

Airworthiness Directives; Rolladen Schneider Flugzeugbau GmbH Models LS 3, LS 4, and LS 6c Sailplanes

AGENCY: Federal Aviation Administration, DOT.

ACTION: Final rule.

SUMMARY: This amendment adopts a new airworthiness directive (AD) that applies to all Rolladen Schneider Flugzeugbau GmbH (Rolladen Schneider) Models LS 3, LS 4, and LS 6c sailplanes. This AD requires you to inspect the airbrake levers in the wing for lower end corrosion and for play in flight direction when fully extended and retracting under load; replace the bearings if there is jamming under load or if corrosion is found; and adjust the lower lever member (only for the Model LS 3). This AD is the result of mandatory continuing airworthiness information (MCAI) issued by the airworthiness authority for Germany. The actions specified by this AD are intended to detect and correct corrosion damage to the airbrake levers and bearings caused by collection of water in the airbrake boxes, not detected during postflight checks. This condition could result in the airbrakes locking in the extended position and a consequent off-field or short landing.

DATES: This AD becomes effective on July 13, 2001.

The Director of the Federal Register approved the incorporation by reference of certain publications listed in the regulations as of July 13, 2001.

ADDRESSES: You may get the service information referenced in this AD from Rolladen-Schneider Flugzeugbau GmbH, Muhlstrasse 10, D-63329 Egelsbach, Germany; phone: ++ 49 6103 204126; facsimile: ++ 49 6103 45526. You may examine this information at the Federal Aviation Administration (FAA), Central Region, Office of the Regional Counsel, Attention: Rules Docket No. 2000-CE-33-AD, 901 Locust, Room 506, Kansas City, Missouri 64106; or at the Office of the Federal Register, 800 North Capitol Street, NW., suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What events have caused this AD? The Luftfahrt-Bundesamt (LBA), which is the airworthiness authority for Germany, notified FAA that an unsafe condition may exist on all Rolladen Schneider Models LS 3, LS 4, and LS 6c sailplanes. The LBA reports one occurrence of corroded bearings on the lower ends of airbrake levers found on the above-referenced sailplanes. The damage was possibly the result of improper postflight checks. It has been reported that in some cases, the corrosion, occurring over a long time, could cause bearing failure and consequent locking of airbrakes in the extended position.

What are the consequences if the condition is not corrected? If the airbrakes lock in the extended position, inadvertent off-field or short landing conditions might occur.

Has FAA taken any action to this point? We issued a proposal to amend part 39 of the Federal Aviation Regulations (14 CFR part 39) to include an AD that would apply to all Rolladen Schneider Models LS 3, LS 4, and LS 6c sailplanes. This proposal was published in the Federal Register as a notice of proposed rulemaking (NPRM) on February 14, 2001 (66 FR 10230). The NPRM proposed to require you to inspect the airbrake levers in the wing for lower end corrosion and for play in flight direction when fully extended; inspect for retraction under load; replace the bearings if there is jamming under load or if corrosion is found; and adjust the lower lever member (only for the Model LS 3).

Was the public invited to comment? Interested persons were afforded an opportunity to participate in the making of this amendment. No comments were received on the proposed rule or the FAA's determination of the cost to the public.

FAA's Determination

What is FAA's final determination on this issue? After careful review of all available information related to the subject presented above, we have determined that air safety and the public interest require the adoption of the rule as proposed except for minor editorial corrections. We determined that these minor corrections:

—Will not change the meaning of the AD; and

—Will not add any additional burden upon the public than was already proposed.

Cost Impact

How many sailplanes does this AD impact? We estimate that this AD affects 175 sailplanes in the U.S. registry.

What is the cost impact of this AD on owners/operators of the affected sailplanes? We estimate the following costs to do the inspection:

Labor cost | Parts cost | Total cost per sailplane | Total cost on U.S. operators
2 workhours × $60 per hour = $120 | Not applicable | $120 | $21,000

We estimate the following costs to do any necessary bearing replacement that will be required because of the results of the inspection. We have no way of determining the number of sailplanes that will need bearings replaced:

Labor cost | Parts cost | Total cost per sailplane
30 workhours × $60 per hour = $1,800 | $35 for bearings + $550 for levers = $585 | $2,385

Compliance Time of This AD

What is the compliance time of this AD? The compliance time of this AD is within the next 30 calendar days after the effective date of this AD.

Why is the compliance time presented in calendar time instead of hours time-in-service (TIS)? Because of the typical use of sailplanes, calendar days compliance time is deemed more suitable than hours time-in-service. For example, one sailplane operator may use the sailplane 50 hours in a month while another may only accumulate 50 hours in a year.

Why is the compliance time of this AD different from the German AD and the service information? The service information specifies the actions required in this AD

“before next flight” and the German AD mandates these actions “before next take-off, when play at levers is existent” for sailplanes registered for operation in Germany. The FAA does not have justification for requiring the action before further flight. Compliance times such as these are used for urgent safety of flight conditions. Instead, FAA has determined that 30 calendar days is a reasonable time period for doing the inspection in this AD.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-10-08 Rolladen Schneider Flugzeugbau GmbH: Amendment 39-12234; Docket No. 2000-CE-33-AD.

(a) What sailplanes are affected by this AD? This AD affects Models LS 3, LS 4, and LS 6c sailplanes, all serial numbers, certificated in any category.

(b) Who must comply with this AD? Anyone who wishes to operate any of the above sailplanes must comply with this AD.

(c) What problem does this AD address? The actions specified by this AD are intended to detect and correct corrosion damage to the airbrake levers and bearings caused by collection of water in the airbrake boxes, not detected during postflight checks. This condition could result in the airbrakes locking in the extended position and a consequent off-field or short landing.

(d) What actions must I accomplish to address this problem? To address this problem, you must do the following:

Actions | Compliance | Procedures
(1) Inspect airbrake levers in the wing for lower end corrosion and for play in flight direction when fully extended, and retracting under load | Within the next 30 calendar days after July 13, 2001 (the effective date of this AD), and thereafter at every three calendar years | Do these actions following the applicable Rolladen Schneider Technical Bulletin: Model LS 3: No. 3051, dated September 14, 1999; Model LS 4: No. 4043, dated September 14, 1999; or Model LS 6c: No. 6037, dated September 14, 1999.
(2) Replace the bearings if there is jamming under load | Prior to further flight after the inspection required in paragraph (d)(1) of this AD | Do this action following the applicable Rolladen Schneider Technical Bulletin: Model LS 3: No. 3051, dated September 14, 1999; Model LS 4: No. 4043, dated September 14, 1999; or Model LS 6c: No. 6037, dated September 14, 1999.
(3) If corrosion of the bearings is found, but no jamming, replace the bearings | Within 6 calendar months after the inspection required in paragraph (d)(1) of this AD | Do this action following the applicable Rolladen Schneider Technical Bulletin: Model LS 3: No. 3051, dated September 14, 1999; Model LS 4: No. 4043, dated September 14, 1999; or Model LS 6c: No. 6037, dated September 14, 1999.
(4) For only the Model LS 3, adjust the lower lever member | Within the next 30 calendar days after July 13, 2001 (the effective date of this AD) | Do this action following the procedures contained in Rolladen Schneider Technical Bulletin No. 3051, dated September 14, 1999.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4121; facsimile: (816) 329-4091.

(g) What if I need to fly the sailplane to another location to comply with this AD? The FAA can issue a special flight permit under sections 21.197 and 21.199 of the Federal Aviation Regulations (14 CFR 21.197 and 21.199) to operate your sailplane to a location where you can accomplish the requirements of this AD.

(h) Are any service bulletins incorporated into this AD by reference? Actions required by this AD must be done in accordance with Rolladen Schneider Technical Bulletin No. 3051, Technical Bulletin No. 4043, or Technical Bulletin No. 6037, all dated September 14, 1999. The Director of the Federal Register approved this incorporation by reference under 5 U.S.C. 552(a) and 1 CFR part 51. You can get copies from Rolladen-Schneider Flugzeugbau GmbH, Muhlstrasse 10, D-63329 Egelsbach, Germany. You can look at copies at the FAA, Central Region, Office of the Regional Counsel, 901 Locust, Room 506, Kansas City, Missouri, or at the Office of the Federal Register, 800 North Capitol Street, NW., suite 700, Washington, DC.

(i) When does this amendment become effective? This amendment becomes effective on July 13, 2001.

Note 2: The subject of this AD is addressed in German AD Numbers 2000-076, 2000-082, and 2000-085, all dated March 9, 2000.

Issued in Kansas City, Missouri, on May 14, 2001.
Melvin D. Taylor,
Acting Manager, Small Airplane Directorate, Aircraft Certification Service.

[FR Doc. 01-12523 Filed 5-18-01; 8:45 am]

BILLING CODE 4910-13-U